DEPARTMENT OF TRANSPORTATION

Federal Aviation Administration

14 CFR Part 39

[Docket No. FAA-2020-0468; Product Identifier 2018-SW-046-AD]

RIN 2120-AA64

Airworthiness Directives; Leonardo S.p.A. Helicopters

AGENCY: Federal Aviation Administration (FAA), DOT.

ACTION: Notice of proposed rulemaking (NPRM).

SUMMARY: The FAA proposes to adopt a new airworthiness directive (AD) for all Leonardo S.p.A. Model A119 and AW119 MKII helicopters. This proposed AD was prompted by reports that certain fuel control units (FCU) may not have been calibrated to specification during overhaul. This proposed AD would require revising the rotorcraft flight manual (RFM) for your helicopter and installing a placard to prohibit intentional entry into autorotation. This proposed AD would also allow replacement of an affected FCU as an optional terminating action for the RFM revision and placard installation. The FAA is proposing this AD to address the unsafe condition on these products.

DATES: The FAA must receive comments on this proposed AD by July 27, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Leonardo S.p.A. Helicopters, Emanuele Bufano, Head of Airworthiness, Viale G.Agusta 520, 21017 C.Costa di Samarate (Va) Italy; telephone +39-0331-225074; fax +39-0331-229046; or at https://www.leonardocompany.com/en/home. You may view this service information at the FAA, Office of the Regional Counsel, Southwest Region, 10101 Hillwood Pkwy., Room 6N-321, Fort Worth, TX 76177.

Examining the AD Docket

You may examine the AD docket on the internet at https://www.regulations.gov by searching for and locating Docket No. FAA-2020-0468; or in person at Docket Operations between 9 a.m. and 5 p.m., Monday through Friday, except Federal holidays. The AD docket contains this NPRM, the European Aviation Safety Agency (now European Union Aviation Safety Agency) (EASA) AD, any comments received, and other information. The street address for Docket Operations is listed above. Comments will be available in the AD docket shortly after receipt.

FOR FURTHER INFORMATION CONTACT: Clark Davenport, Flight Test Analyst, Flight Test Branch, FAA, 10101 Hillwood Pkwy., Fort Worth, TX 76177; telephone (817) 222-5151; email clark.davenport@faa.gov.

SUPPLEMENTARY INFORMATION:

Comments Invited

The FAA invites you to send any written relevant data, views, or arguments about this proposal. Send your comments to an address listed under the ADDRESSES section. Include “Docket No. FAA-2020-0468; Product Identifier 2018-SW-046-AD” at the beginning of your comments. The FAA specifically invites comments on the overall regulatory, economic, environmental, and energy aspects of this NPRM. The FAA will consider all comments received by the closing date and may amend this NPRM because of those comments.

The FAA will post all comments received, without change, to https://www.regulations.gov, including any personal information you provide. The FAA will also post a report summarizing each substantive verbal contact received about this NPRM.

Discussion

EASA, which is the Technical Agent for the Member States of the European Union, issued EASA AD 2018-0124, dated June 5, 2018 (referred to after this as the Mandatory Continuing Airworthiness Information, or “the MCAI”), to correct an unsafe condition for all Leonardo S.p.A. Model A119 and AW119 MKII helicopters. EASA advises that certain FCUs may not have been calibrated to specification during overhaul, and that this condition, if not corrected, can lead to N1 fluctuations, hung engine starts, and the inability to recover power during autorotation training, possibly resulting in reduced control of the helicopter. To address this unsafe condition, the EASA AD requires amendment of the applicable RFM and installation of a placard to prohibit intentional entry into autorotation. The EASA AD also allows removal of the RFM limitation and placard after replacement of an affected FCU.

You may examine the MCAI in the AD docket on the internet at https://www.regulations.gov by searching for and locating Docket No. FAA-2020-0468.

Related Service Information Under 1 CFR Part 51

Leonardo S.p.A. has issued Leonardo Helicopters Emergency Alert Service Bulletin 119-089, Revision A, dated June 5, 2018. This service information describes procedures for revising the RFM and installing a placard in the cockpit.

This service information is reasonably available because the interested parties have access to it through their normal course of business or by the means identified in the ADDRESSES section.

FAA's Determination

This product has been approved by the aviation authority of another country, and is approved for operation in the United States. Pursuant to the FAA's bilateral agreement with the State of Design Authority, the FAA has been notified of the unsafe condition described in the MCAI and service information referenced above. The FAA is proposing this AD after evaluating all the relevant information and determining the unsafe condition described previously is likely to exist or develop on other products of the same type design.

Proposed Requirements of This NPRM

This proposed AD would require accomplishing the actions specified in the service information described previously.

Interim Action

The FAA considers this proposed AD interim action. If final action is later identified, the FAA might consider further rulemaking.

Costs of Compliance

The FAA estimates that this proposed AD affects 64 helicopters of U.S. registry. The FAA estimates the following costs to comply with this proposed AD:

Estimated Costs for Required Actions
Labor cost | Parts cost | Cost per product | Cost on U.S. operators
2 work-hours × $85 per hour = $170 | $50 | $220 | $14,080

The FAA has received no definitive data that would enable it to provide cost estimates for the optional terminating action specified in this proposed AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Leonardo S.p.A.: Docket No. FAA-2020-0468; Product Identifier 2018-SW-046-AD.

(a) Comments Due Date

The FAA must receive comments by July 27, 2020.

(b) Affected ADs

None.

(c) Applicability

This AD applies to all Leonardo S.p.A. Model A119 and AW119 MKII helicopters, certificated in any category.

(d) Subject

Joint Aircraft Service Component (JASC) Code 1100, Placards and markings.

(e) Reason

This AD was prompted by reports that certain fuel control units (FCU) may not have been calibrated to specification during overhaul. The FAA is issuing this AD to address certain FCUs that may not have been calibrated to specification during overhaul. This condition, if not corrected, can lead to N1 fluctuations, hung engine starts, and the inability to recover power during autorotation training, possibly resulting in reduced control of the helicopter.

(f) Compliance

Comply with this AD within the compliance times specified, unless already done.

(g) Definitions

For the purposes of this AD, the definitions in paragraphs (g)(1) through (3) of this AD apply.

(1) An affected FCU is one that is identified in section 1.A., “Effectivity,” of Leonardo Helicopters Emergency Alert Service Bulletin 119-089, Revision A, dated June 5, 2018.

(2) Group 1 helicopters are those that have an affected FCU installed.

(3) Group 2 helicopters are those that do not have an affected FCU installed.

(h) Required Rotorcraft Flight Manual (RFM) Amendment

For Group 1 helicopters: Before further flight involving intentional autorotation, or within 30 days after the effective date of this AD, whichever occurs first, revise the Limitations Section of the RFM for your helicopter in accordance with paragraph 4. of the Accomplishment Instructions of Leonardo Helicopters Emergency Alert Service Bulletin 119-089, Revision A, dated June 5, 2018.

(i) Required Placard Installation

For Group 1 helicopters: Concurrently with the RFM amendment required by paragraph (h) of this AD, install a placard in the cockpit in accordance with paragraph 3. of the Accomplishment Instructions of Leonardo Helicopters Emergency Alert Service Bulletin 119-089, Revision A, dated June 5, 2018.

(j) Optional Terminating Action

For Group 1 helicopters: Replacing the affected FCU with a non-affected FCU allows the amendment to be removed from the RFM for your helicopter and the placard to be removed from the helicopter.

(k) Parts Installation Prohibition

(1) For Group 1 helicopters: Do not install an affected FCU on any helicopter after replacement with a non-affected FCU.

(2) For Group 2 helicopters: Do not install an affected FCU on any helicopter after the effective date of this AD.

(l) Alternative Methods of Compliance (AMOCs)

(1) The Manager, Rotorcraft Standards Branch, FAA, may approve AMOCs for this AD. Send your proposal to: Clark Davenport, Flight Test Analyst, Flight Test Branch, FAA, 10101 Hillwood Pkwy., Fort Worth, TX 76177; telephone (817) 222-5151; email 9-ASW-FTW-AMOC-Requests@faa.gov.

(2) For operations conducted under a 14 CFR part 119 operating certificate or under 14 CFR part 91, subpart K, notify your principal inspector or lacking a principal inspector, the manager of the local flight standards district office or certificate holding district office, before operating any aircraft complying with this AD through an AMOC.

(m) Related Information

(1) The subject of this AD is addressed in European Aviation Safety Agency (now European Union Aviation Safety Agency) (EASA) AD 2018-0124, dated June 5, 2018. This EASA AD may be found in the AD docket on the internet at https://www.regulations.gov by searching for and locating Docket No. FAA-2020-0468.

(2) For service information identified in this AD, contact Leonardo S.p.A. Helicopters, Emanuele Bufano, Head of Airworthiness, Viale G.Agusta 520, 21017 C.Costa di Samarate (Va) Italy; telephone +39-0331-225074; fax +39-0331-229046; or at https://www.leonardocompany.com/en/home. You may view this service information at the FAA, Office of the Regional Counsel, Southwest Region, 10101 Hillwood Pkwy., Room 6N-321, Fort Worth, TX 76177.

Issued on June 5, 2020.
Lance T. Gant,
Director, Compliance & Airworthiness Division, Aircraft Certification Service.

[FR Doc. 2020-12586 Filed 6-10-20; 8:45 am]

BILLING CODE 4910-13-P